FEDERAL COMMUNICATIONS COMMISSION

47 CFR Part 54

[WC Docket No. 17-310; FCC No. 23-6; FR ID 188068]

Promoting Telehealth in Rural America

AGENCY: Federal Communications Commission.

ACTION: Final rule; announcement of effective date.

SUMMARY: In this document, the Federal Communications Commission (Commission) announces that the Office of Management and Budget (OMB) has approved, for a period of three years, a revision to an information collection associated with the rules for the Rural Health Care (RHC) Program contained in the Commission's Order, FCC 23-6. This document is consistent with the Order on Reconsideration, Second Report and Order, and Order, which stated that the Commission would publish a document in the Federal Register announcing the effective date of the new information collection requirements.

DATES: The amendments to §§ 54.604 (amendatory instruction 2), 54.605 (amendatory instruction 3), and 54.627 (amendatory instruction 8), published at 88 FR 17379, March 23, 2023, are effective December 1, 2023.

FOR FURTHER INFORMATION CONTACT: Bryan P. Boyle, Telecommunications Access Policy Division, Wireline Competition Bureau at (202) 418-7400 or TTY: (202) 418-0484 or via email: Bryan.Boyle@fcc.gov. For additional information concerning the Paperwork Reduction Act information collection requirements, contact Nicole Ongele at (202) 418-2991 or via email: Nicole.Ongele@fcc.gov.

SUPPLEMENTARY INFORMATION: The Commission submitted new information collection requirements for review and approval by OMB, as required by the Paperwork Reduction Act (PRA) of 1995, on October 25, 2023, which were approved by the OMB on November 27, 2023. The information collection requirements are contained in the Commission's Order on Reconsideration, Second Report and Order, and Order, FCC 23-6 published at 88 FR 17379, March 23, 2023. The OMB Control Number is 3060-0804. The Commission publishes this document as an announcement of the effective date of the rules that required PRA approval. If you have any comments on the burden estimates listed herein, or how the Commission can improve the collections and reduce any burdens caused thereby, please contact Nicole Ongele, Federal Communications Commission, 45 L Street NE, Washington, DC 20554. Please include the OMB Control Number, 3060-0804, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on November 27, 2023, for the information collection requirements contained in 47 CFR 54.604, 54.605, and 54.627. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0804.

The foregoing notification is required by the Paperwork Reduction Act of 1995, Public Law 104-13, October 1, 1995, and 44 U.S.C. 3507.

The total annual reporting burdens and costs for the respondents are as follows:

OMB Control Number: 3060-0804.

OMB Approval Date: November 27, 2023.

OMB Expiration Date: November 30, 2026.

Title: Universal Service—Rural Health Care Program.

Form Nos.: FCC Form 460, 461, 462, 463, 465, 466, 467, and 469.

Type of Review: Revision of a currently approved collection.

Respondents: Business or other for-profit; Not-for-profit institutions; Federal Government; and State, local, or Tribal governments.

Number of Respondents and Responses: 12,854 unique respondents; 116,404 responses.

Estimated Time per Response: 0.30-17 hours.

Frequency of Response: On occasion, One-time, Annual, and Monthly reporting requirements.

Obligation to Respond: Required to obtain or retain benefits. Statutory authority for this collection of information is contained in sections 1-4, 201-205, 214, 254, 303(r), and 403 of the Communications Act of 1934, as amended, 47 U.S.C. 151-154, 201-205, 214, 254, 303(r), and 403, unless otherwise noted.

Total Annual Burden: 442,117 hours.

Total Annual Cost: No Cost.

Needs and Uses: This collection is utilized for the RHC support mechanism of the Commission's universal service fund (USF). The Commission and USAC will use the information to determine if entities are eligible for funding pursuant to the RHC universal service support mechanism, to determine whether entities are complying with the Commission's rules, and to prevent waste, fraud, and abuse. This information also allows the Commission to evaluate the extent to which the RHC Program is meeting the statutory objectives specified in section 254(h) of the 1996 Act, and the Commission's performance goals for the RHC Program.

To aid in collecting this information, the public will use the Commission's forms to provide the necessary information and certifications. This revision modifies the existing information collection requirements applicable to the Telecommunications (Telecom) Program as a result of the 2023 Promoting Telehealth Order on Reconsideration, Second Report and Order, and Order, FCC 23-6, rel. January 27, 2023 (88 FR 17379, March 23, 2023). The revisions, where applicable, are intended to simplify calculations of support in the Telecom Program and streamline the invoicing process in the Telecom Program.

Federal Communications Commission.
Katura Jackson,
Federal Register Liaison Officer.

[FR Doc. 2023-26421 Filed 11-30-23; 8:45 am]

BILLING CODE 6712-01-P